POSTAL SERVICE

39 CFR Part 20

International Product and Price Changes

AGENCY: Postal Service™.

ACTION: Final rule.

SUMMARY: The Postal Service is revising Mailing Standards of the United States Postal Service, International Mail Manual (IMM®), to reflect changes to the prices for the following Shipping Services:

• Global Express Guaranteed® (GXG®).

• Express Mail International® (EMI).

• Priority Mail International® (PMI).

In addition to the above shipping services changes the Postal Service adds an individual country listing for Kosovo to reflect it's independence from the Republic of Serbia.

We are implementing this international price change concurrent with our domestic shipping services price change. The price increases for retail services average 4.1 percent for GXG service; 2.9 percent for Express Mail International service; and 3.0 percent for Priority Mail International service.

DATES: Effective Date: January 4, 2010.

FOR FURTHER INFORMATION CONTACT: Obataiye B. Akinwole at 703-292-5260.

SUPPLEMENTARY INFORMATION: On September 22, 2009, the Governors of the Postal Service established new prices for shipping services. The new prices are effective on January 4, 2010. Only the shipping services prices will change in January.

This final rule describes the international price changes and the mailing standards changes required for implementation.

Global Express Guaranteed

Global Express Guaranteed (GXG) service is an international expedited delivery service provided through an alliance with FedEx Express. GXG service provides reliable, high-speed, date-certain service with a money-back guarantee to over 190 countries.

The price increase for retail GXG service averages approximately 4.1 percent. The commercial base price for customers who prepare and pay for shipments online at USPS.com or by using an authorized PC Postage® vendor remains 10 percent below the retail price.

Express Mail International

Express Mail International (EMI) service provides reliable, high-speed service to over 190 countries with a money-back, date-certain delivery guarantee to select destinations.

The price increase for retail Express Mail International service averages approximately 2.9 percent. The commercial base price for customers that prepare and pay for shipments online at USPS.com or by using an authorized PC Postage vendor remains 8 percent below the retail price.

Priority Mail International

Priority Mail International (PMI) service offers economical prices for reliable delivery of documents and merchandise, usually within 6 to 10 business days to many major markets.

The price increase for retail Priority Mail International service averages approximately 3.0 percent. The commercial base price for customers that prepare and pay for shipments online at usps.com or by using an authorized PC Postage vendor remains 5 percent below the retail price.

Kosovo

We are adding an Individual Country Listing for Kosovo. This change is necessary to reflect Kosovo's independence from Serbia.

The Postal Service hereby adopts the following changes to Mailing Standards of the United States Postal Service, International Mail Manual (IMM), which is incorporated by reference in the Code of Federal Regulations. See 39 CFR 20.1

List of Subjects in 39 CFR Part 20

Foreign relations, International postal services.

Accordingly, 39 CFR Part 20 is amended as follows:

PART 20—[AMENDED]

1. The authority citation for 39 CFR Part 20 continues to read as follows:

Authority: 5 U.S.C. 552(a); 13 U.S.C. 301-307; 39 U.S.C. 401, 403, 404, 407, 414, 416, 3001-3011, 3201-3219, 3403-3406, 3621, 3622, 3626, 3632, 3633, and 5001.

2. Revise the following sections of Mailing Standards of the United States Postal Service, International Mail Manual (IMM), as follows:

* * * * *

2 Conditions for Mailing

210 Global Express Guaranteed

* * * * *

213 Prices and Postage Payment Methods

* * * * *

213.5 Destinating Countries and Price Groups

* * * * *

Exhibit 213.5

Destinating Countries and Price Groups

[Add a listing for Kosovo as follows:]

Country | GXG price group
* * * * *
Kosovo | 4

* * * * *

220 Express Mail International

* * * * *

223 Price and Postage Payment Methods

223.1 Prices

* * * * *

223.12 Express Mail International Flat-Rate Envelope Prices

* * * * *

Exhibit 223.12

Express Mail International Flat-Rate Envelope

[Revise Exhibit 223.12 by changing the prices as follows:]

Canada & Mexico | $26.95
All other countries | 28.95

* * * * *

230 Priority Mail International

* * * * *

233 Prices and Postage Payment Methods

233.1 Prices

* * * * *

233.12 Priority Mail International Flat-Rate Envelope and Small Flat-Rate Box

* * * * *

Exhibit 233.12

Priority Mail International Flat-Rate Envelope and Small Flat-Rate Box

[Revise Exhibit 233.12 by changing the prices as follows:]

Canada & Mexico | $11.45
All other countries | 13.45

233.13 Priority Mail International Regular/Medium and Large Flat-Rate Boxes

* * * * *

Exhibit 233.13

Priority Mail International—Regular/Medium and Large Flat-Rate Boxes

[Revise Exhibit 233.13 by changing the prices as follows:]

International destination | Regular/medium | Large
Canada & Mexico | $26.95 | $33.95
All other countries | 43.45 | 55.95

* * * * *

240 First-Class Mail International

* * * * *

243 Prices and Postage Payment Methods

243.1 Prices

* * * * *

243.13 Destinating Countries and Price Groups

* * * * *

Exhibit 243.13

First-Class Mail International Price Groups

[Add an alphabetical listing for Kosovo in Exhibit 243.13 as follows:]

Country | Price group
* * * * *
Kosovo | 5

* * * * *

290 Commercial Services

* * * * *

292 International Priority Airmail (IPA) Service

* * * * *

292.452 Presorted Mail—Direct Country Bundle Label

* * * * *

Exhibit 292.452

IPA Country Price Groups and Foreign Exchange Offices

[Add an alphabetical listing for Kosovo in Exhibit 292.452 as follows:]

Country | Exchange office name | Destination code | Price group
| * * * * * * *
Kosovo | Pristina | PRN | 12

* * * * *

Index of Countries and Localities

* * * * *

[Add an alphabetical reference for Kosovo as follows:]

* * * * *

Kosovo, Republic of * * * [INSERT PAGE NUMBER]

* * * * *

Country Price Groups and Weight Limits

[Add an alphabetical listing for Kosovo as follows:]

* * * * *

Country | GXG: Price group | GXG: Max. wt. (lbs.) | EMI: Price group | EMI: Max. wt. (lbs.) | PMI ¹: Price group | PMI: Max. wt. (lbs.) | FCMI: Price group | FCMI: Max. wt.² (lbs.)
* * * * * * *
Kosovo | 4 | 70 | - | - | 5 | 70 | 5 | 3.5/4

* * * * *

Individual Country Listings

* * * * *

Country Conditions for Mailing

* * * * *

[For each country for which a Global Express Guaranteed price table is provided replace the Global Express Guaranteed price table with the appropriate table based on the prices below:]

BILLING CODE 7710-12-P

* * * * *

[For each country for which an Express Mail International price table is provided replace the Express Mail International price table with the appropriate table based on the prices below:]

* * * * *

Express Mail International—Flat Rate

[For each country that offers Express Mail International flat-rate service, revise the flat-rate section as follows:]

[For all countries except Canada and Mexico:]

Flat-Rate Envelope: $28.95

[For Canada and Mexico:]

Flat-Rate Envelope: $26.95

* * * * *

[For each country, for which a Priority Mail International price table is provided, replace the Priority Mail International price table with the appropriate table based on the prices below:]

BILLING CODE 7710-12-C

* * * * *

Priority Mail International—Flat Rate

[For each country that offers Priority Mail International flat-rate service, revise the lines of text for the flat-rate envelope and flat-rate boxes as follows:]

[For all countries except Canada and Mexico:]

Flat-Rate Envelope or Small Flat-Rate Box: $13.45

* * * * *

Flat-Rate Boxes: Regular/Medium—$43.45; Large—$55.95

* * * * *

[For Canada and Mexico:]

Flat-Rate Envelope or Small Flat-Rate Box: $11.45

* * * * *

Flat-Rate Boxes: Regular/Medium—$26.95; Large—$33.95

* * * * *

[Add an individual country listing for Kosovo, Republic of as follows:]

* * * * *

Kosovo, Republic of

Prohibitions (130)

Weapons and ammunition by private individuals.

Cigarette paper.

Coins; banknotes; currency notes (paper money); securities payable to bearer; traveler's checks; platinum, gold, and silver, manufactured or not; precious stones; jewelry; and other valuable articles.

Lottery tickets and advertisements concerning lotteries.

Radioactive materials.

Restrictions

No list furnished.

Observations

Items sent to certain individuals and entities in Kosovo must be licensed by the U.S. Treasury Department. These individuals and entities are identified on the treasury Department's specially Designated Nationals list, available at http://www.treas.gov/offices/enforcement/ofac/sdn. Certain shipments may also require a license by the U.S. Commerce Department under the Export Administration Regulations (530).

Customs Forms Required (123)

First-Class Mail International items and Priority Mail International flat-rate envelopes and small flat-rate boxes:

PS Form 2976 or 2976-A (see 123.61).

Priority Mail International parcels: PS Form 2976-A inside 2976-E (envelope)

Global Express Guaranteed (210) Price Group 4

[Insert the Global Express Guaranteed table for price group 4 with a weight limit of 70 pounds.]

Insurance (215.5)

Insured amount not over | Fee | Insured amount not over | Fee
$100 | (¹) | For document reconstruction insurance or non-document insurance coverage above $800, add $1.00 per $100 or fraction thereof, up to a maximum of $2,499 per shipment.
200 | $1.00 |
300 | 2.00 |
400 | 3.00 |
500 | 4.00 |
600 | 5.00 |
700 | 6.00 |
800 | 7.00 | $2,499 max | $24.00
¹ No fee.

Value Limit (211.2)

The maximum value of a GXG shipment to this country is $2,499 or a lesser amount if limited by content or value.

Size Limits (216.5)

An item must be large enough to hold on its face the postage and the plastic pouch that carries the Global Express Guaranteed Air Waybill/Shipping Invoice (shipping label). The shipping label is approximately 5.5 inches high and 9.5 inches long, and the plastic pouch that carries it is approximately 7 inches high and 12 inches long.

Maximum length: 46 inches.

Maximum width: 35 inches.

Maximum height: 46 inches.

Maximum length and girth combined: 108 inches.

General Conditions for Mailing

See Publication 141, Global Express Guaranteed Service Guide, for information about areas served in the destination country, allowable contents, packaging and labeling requirements, tracking and tracing, service standards, and other conditions for mailing.

Express Mail International (220)

Not Available

Priority Mail International (230) Price Group 5

[Insert the Priority Mail International table for price group 5 with a weight limit of 70 pounds.]

Notes: Ordinary Priority Mail International includes indemnity at no cost based on weight. (See 230.)

Priority Mail International—Flat Rate

Flat-Rate Envelope or Small Flat-Rate Box: $13.45

May contain items that may be sent as First-Class Mail International. The maximum weight is 4 lbs.

Flat-Rate Boxes: Regular/Medium—$43.45; Large—$55.95

The maximum weight is 20 lbs. or the limit set by the individual country, whichever is less.

Size Limits

See 236.2

First-Class Mail International (240) Price Group 5

Letters

Weight not over (ozs.) | Price |  |  |  |
1 2 3 3.5 | $0.98 1.82 2.66 3.50 | Note: A letter meeting one or more of the nonmachinable characteristics in 243.23 is charged a nonmachinable surcharge of $0.20.

Large Envelopes (Flats)

Weight not over (ozs.) | Price | Weight not over (ozs.) | Price | Weight not over (ozs.) | Price
1 | $1.24 | 12 | $8.84 | 44 | $22.60
2 | 2.08 | 16 | 10.56 | 48 | 24.32
3 | 2.92 | 20 | 12.28 | 52 | 26.04
4 | 3.76 | 24 | 14.00 | 56 | 27.76
5 | 4.60 | 28 | 15.72 | 60 | 29.48
6 | 5.44 | 32 | 17.44 | 64 | 31.20
7 | 6.28 | 36 | 19.16 |  |
8 | 7.12 | 40 | 20.88 |  |

Packages (Small Packets)

Weight not over (ozs.) | Price | Weight not over (ozs.) | Price | Weight not over (ozs.) | Price
1 | $1.44 | 12 | $9.04 | 44 | $22.80
2 | 2.28 | 16 | 10.76 | 48 | 24.52
3 | 3.12 | 20 | 12.48 | 52 | 26.24
4 | 3.96 | 24 | 14.20 | 56 | 27.96
5 | 4.80 | 28 | 15.92 | 60 | 29.68
6 | 5.64 | 32 | 17.64 | 64 | 31.40
7 | 6.48 | 36 | 19.36 |  |
8 | 7.32 | 40 | 21.08 |  |

Size Limits

Postcards: See 243.1

Letters: See 243.2

Large Envelopes (Flats): See 243.3

Packages (Small Packets): See 243.4

Postcards (243.1)

$0.98

Airmail M-bags (260)—Direct Sack to One Addressee

Weight not over 11 lbs. | $35.75
Each additional pound or fraction of a pound | 3.25
Weight Limit: 66 pounds

Matter for the Blind (270)

Free when sent as First-Class Mail International.

Weight limit: 15 lbs.

Extra Services

Certificate of Mailing (313)

Fee: $1.15.

COD and Certified

NOT for International Mail.

Insurance (320)

Priority Mail International insurance coverage is not available to Kosovo. Only ordinary (uninsured) parcels may be sent to addressees in Kosovo.

International Business Reply Service (382)

Fee: Envelopes up to 2 ounces $1.45; Cards $0.95.

International Postal Money Order (371)

NOT Available.

International Reply Coupons (381)

Fee: $2.10.

Registered Mail (330)

Fee: $11.50.

Maximum Indemnity: $47.93.

Available for First-Class Mail International, including postcards, and matter for the blind or other physically handicapped persons. Not applicable to M-bags.

Restricted Delivery (350)

NOT Available.

Return Receipt (340)

Fee: $2.30.

Available for registered mail only.

* * * * *

Serbia, Republic of

Country Conditions for Mailing

* * * * *

Observations

[Delete observation # 7.]

* * * * *

Stanley F. Mires,
Chief Counsel, Legislative.

[FR Doc. E9-26987 Filed 11-5-09; 4:15 pm]

BILLING CODE 7710-12-P